ENVIRONMENTAL PROTECTION AGENCY

[FRL-9250-3]

National Advisory Council for Environmental Policy and Technology

AGENCY: Environmental Protection Agency (EPA).

ACTION: Notice of Meeting.

SUMMARY: Under the Federal Advisory Committee Act, Public Law 92463, EPA gives notice of a public meeting of the National Advisory Council for Environmental Policy and Technology (NACEPT). NACEPT provides advice to the EPA Administrator on a broad range of environmental policy, technology, and management issues. NACEPT represents diverse interests from academia, industry, non-governmental organizations, and local, State, and Tribal governments. The Council will continue discussing the workplans it is developing to respond to EPA's request for advice on workforce issues the Agency is facing and how EPA can best address the needs of vulnerable populations. A copy of the agenda for the meeting will be posted at http://www.epa.gov/ofacmo/nacept/cal-nacept.htm.

DATES: NACEPT will hold a public meeting on Thursday, January 20, 2011 from 9 a.m. to 5:30 p.m. and Friday, January 21, 2011 from 8:30 a.m. to 2 p.m. Due to logistical circumstances, EPA is announcing this meeting with less than 15 calendar days public notice.

ADDRESSES: The meeting will be held at the Hilton Garden Inn Washington Hotel 815 14th Street, NW., in Washington, DC 20005, phone number 202-783-7800.

FOR FURTHER INFORMATION CONTACT: Mark Joyce, Acting Designated Federal Officer, joyce.mark@epa.gov, (202) 564-2130, U.S. EPA, Office of Federal Advisory Committee Management and Outreach (1601M), 1200 Pennsylvania Avenue, NW., Washington, DC 20460.

SUPPLEMENTARY INFORMATION: Requests to make oral comments or to provide written comments to NACEPT should be sent to Megan Moreau at (202) 564-5320 or moreau.megan@epa.gov by Friday, January 14, 2011. The public is welcome to attend all portions of the meeting, but seating is limited and is allocated on a first-come, first-serve basis. Members of the public wishing to attend should contact Megan Moreau at (202) 564-5320 or moreau.megan@epa.gov by January 14, 2011.

Meeting Access: For information on access or services for individuals with disabilities, please contact Megan Moreau at (202) 564-5320 or moreau.megan@epa.gov. To request accommodation of a disability, please contact Megan, preferably 10 days prior to the meeting, to give EPA as much time as possible to process your request.

Dated: January 5, 2011.
Timothy Sherer,
Acting Designated Federal Officer.

[FR Doc. 2011-220 Filed 1-7-11; 8:45 am]

BILLING CODE 6560-50-P